FEDERAL COMMUNICATIONS COMMISSION

[CG Docket No. 03-123; DA 05-2417]

Reminder That Video Relay Service (VRS) Provides Access to the Telephone System Only and Cannot Be Used as a Substitute for “In-Person” Interpreting Services or Video Remote Interpreting (VRI)

AGENCY: Federal Communications Commission.

ACTION: Notice.

SUMMARY: In this document, the Commission reminds Video Relay Service (VRS) providers, consumers, and businesses that VRS cannot be used as a substitute for “in-person” interpreting services or for Video Remote Interpreting (VRI). The Commission will continue to carefully scrutinize the provision and use of VRS to ensure that it is being used only as a means of accessing the telephone system, not as a substitute for VRI or as a means to gain free “in-person” interpreting services. Also, in this document, the Commission encourages persons requiring interpreting services and providing interpreting services, as well as VRS providers, to report any improper use of VRS to the Commission so that it may ensure that the Interstate Telecommunications Relay Service (TRS) Fund is compensating only legitimate VRS calls. The Commission continues to closely monitor alleged instances of the wrongful use of VRS, and will take whatever enforcement action is necessary and appropriate against such misuse.

FOR FURTHER INFORMATION CONTACT: Thomas Chandler, Consumer & Governmental Affairs Bureau at (202) 418-1475 (voice), (202) 418-0597 (TTY) or e-mail Thomas.Chandler@fcc.gov.

SUPPLEMENTARY INFORMATION: This is a summary of the Commission's document DA 05-2417, released September 7, 2005 in CG Docket No. 03-123. The complete text of document DA 05-2417 and copies of any subsequently filed documents relating to this matter will be available for public inspection and copying during regular business hours at the FCC Reference Information Center, Portals II, 445 12th Street SW., Room CY-A257, Washington, DC 20554. Document DA 05-2417 and copies of subsequently filed documents in this matter may also be purchased from the Commission's duplicating contractor at Portals II, 445 12th Street, SW., Room CY-B402, Washington, DC 20554. Customers may contact the Commission's duplicating contractor at its Web site: http://www.bcpiweb.com or call 1-800-378-3160. To request materials in accessible formats for people with disabilities (Braille, large print, electronic files, audio format), send an e-mail to fcc504@fcc.gov or call the Consumer & Governmental Affairs Bureau at (202) 418-0530 (voice), (202) 418-0432 (TTY). Document DA 05-2417 can also be downloaded in Word and Portable Document Format (PDF) at: http://www.fcc.gov/cgb/dro.

Synopsis

On September 7, 2005, the Commission issued a Public Notice to remind VRS providers, consumers, and businesses that VRS cannot be used as a substitute for “in-person” interpreting services or for Video Remote Interpreting (VRI). VRS, as a form of telecommunications relay service (TRS), is a means of giving persons with hearing disabilities access to the telephone system. The obligation of telephone companies to offer TRS is required by Congress under Title IV of the Americans with Disabilities Act of 1990 (ADA). VRS allows people with hearing disabilities whose primary language is American Sign Language (ASL) to use the Internet or another broadband connection to contact a communications assistant (CA) via video equipment. The CA then makes an outbound telephone call to a hearing person and relays the call between the two parties. Currently, the costs for VRS calls are reimbursed from the Interstate TRS Fund, which is overseen by the Commission, making VRS calls free for consumers. By contrast, sign language interpreters facilitate communication between individuals who use sign language to communicate and those who do not. An interpreter may be used in many situations—e.g., in classrooms, during medical appointments, at staff meetings, or for business transactions—when the parties are together at the same location. Generally, interpreters are contracted and paid for on a fee-for-service basis. Video Remote Interpreting (VRI) is a service that is used when an interpreter cannot be physically present to interpret for two or more persons who are together at the same location. This service uses a video connection to provide access to an interpreter who is at a remote location. As with “in-person” interpreters, VRI services are generally contracted and paid for on a fee-for-service basis. VRS is to be used only when a person with a hearing disability, who absent such disability would make a voice telephone call, desires to make a call through the telephone system (or when, in the reverse situation, the hearing person desires to make such a call to a person with a hearing disability). See 47 CFR 64.601(17) of the Commission's rules. VRS may not be used as a substitute for an “in-person” interpreter or a VRI service.

Although the Commission has previously cautioned about the misuse of VRS as a substitute for “in-person” sign language interpreting services or VRI, it continues to receive reports that this is occurring. See, e.g., Telecommunications Relay Services and Speech-to-Speech Services for Individuals with Hearing and Speech Disabilities, CC Docket No. 98-67, Order on Reconsideration, FCC 00-200, 16 FCC Rcd 4054-4058, paragraph 10 (June 5, 2000); See Telecommunications Relay Services and Speech-to-Speech Services for Individuals with Hearing and Speech Disabilities, CC Docket Nos. 90-571 and 98-67, CG Docket No. 03-123, Report and Order, Order on Reconsideration, and Further Notice of Proposed Rulemaking, FCC 04-137, 19 FCC Rcd 12475-12537, note 466 (June 30, 2004), published at 69 FR 53346 (September 1, 2004), 69 FR 53382 (September 1, 2004); Federal Communications Commission Clarifies That Certain Telecommunications Relay Services (TRS) Marketing and Call Handling Practices Are Improper and Reminds That Video Relay Service (VRS) May Not Be Used as a Video Remote Interpreting Service, CC Docket No. 98-67, CG Docket No. 03-123, Public Notice, DA 05-141, 20 FCC Rcd 1471 (January 26, 2005), published at 70 FR 8034 (February 17, 2005); Telecommunications Relay Services and Speech-to-Speech Services for Individuals with Hearing and Speech Disabilities, CC Docket No. 98-67, CG Docket No. 03-123, Order on Reconsideration, FCC 05-139, note 109 (July 19, 2005), published at 70 FR 51643 (August 31, 2005). The Commission is concerned that the misuse of VRS may be partially responsible for the large increase in minutes of use of VRS. The Interstate TRS Fund reimbursed 869,003 minutes of VRS usage for June 2004 and 2,136,657 minutes for June 2005. The Commission understands that VRS providers generally have procedures in place to terminate calls where VRS is being used as a way to obtain free interpreting services. However, the Commission also understands that persons misusing VRS may be doing so in ways to avoid detection, and are also publicizing these methods via consumer bulletin boards and other means.

The Commission is mindful that employers, State and local government entities, and public accommodations are required under the ADA to provide persons with hearing disabilities a reasonable accommodation, and that the accommodation may entail the use of a sign language interpreter. However, VRS cannot be used as a substitute for using an in-person interpreter or VRI in situations that would not, absent one of the parties' hearing disability, entail the use of the telephone. The Commission will continue to carefully scrutinize the provision and use of VRS to ensure that it is being used only as a means of accessing the telephone system, not as a substitute for VRI or as a means to gain free “in-person” interpreting services. The Commission encourages persons requiring interpreting service and providing interpreting services, as well as VRS providers, to report any improper use of VRS to the Commission so that it may ensure that the Interstate TRS Fund is compensating only legitimate VRS calls. The Commission will continue to closely monitor alleged instances of the wrongful use of VRS, and take whatever enforcement action is necessary and appropriate against such misuse.

Federal Communications Commission.
Jay Keithley,
Deputy Chief, Consumer & Governmental Affairs Bureau.

[FR Doc. 05-20133 Filed 10-11-05; 8:45 am]

BILLING CODE 6712-01-P